SECURITIES AND EXCHANGE COMMISSION

[File No. 500-1]

In the Matter of Pure H20 Bio-Technologies, Inc.; Order of Suspension of Trading

November 22, 2013.

It appears to the Securities and Exchange Commission that there is a lack of current and accurate information concerning the securities of Pure H20 Bio-Technologies, Inc. because questions have arisen as to its operating status, if any.

The Commission is of the opinion that the public interest and the protection of the investors require a suspension of trading in the securities of the above-listed company.

Therefore, it is ordered, pursuant to Section 12(k) of the Securities Exchange Act of 1934, that trading in the securities of the above-listed company is suspended for the period from 9:30 a.m. EST on November 22, 2013, through 11:59 p.m. EST on December 6, 2013.

By the Commission.
Jill M. Peterson,
Assistant Secretary,

[FR Doc. 2013-28447 Filed 11-22-13; 11:15 am]

BILLING CODE 8011-01-P